CORPORATION FOR NATIONAL AND COMMUNITY SERVICE

Increase in Allowable Cost per Full-Time Equivalent (FTE) for Indian Tribes Applying for 2001 AmeriCorps Program Grant Funds

AGENCY: Corporation for National and Community Service.

ACTION: Notice.

SUMMARY: The Corporation for National and Community Service (Corporation) announces an increase in the allowable cost per FTE for Indian Tribes applying for 2001 AmeriCorps funds. The Corporation will consider applications with a cost per FTE of up to $15,000, provided that the necessity for the increase is clearly documented in the proposal.

FOR FURTHER INFORMATION CONTACT: AmeriCorps Tribal Program Officer, (202) 606-5000, ext. 417. TDD (202) 565-2799. For individuals with disabilities, information will be made available in alternative formats upon request.

SUPPLEMENTARY INFORMATION: Pursuant to the National and Community Service Act of 1990, as amended (42 U.S.C. 12501 et seq.), the Corporation for National and Community Service (Corporation) makes grants to support national service programs. The Corporation has sent out application packets announcing the availability of approximately $2,000,000 for its 2001 AmeriCorps competition for new and continuing AmeriCorps program grants to Indian Tribes. According to the application instructions, no grant may exceed the total number of FTE AmeriCorps members multiplied by $12,100. This notice is to inform potential applicants that the Corporation will consider applications with a cost per FTE of up to $15,000, provided that the necessity for the increase is clearly documented in the proposal.

For example, if an applicant wishes to apply for a program supporting 20 full-time AmeriCorps members, the maximum grant award the applicant may receive is 20 x $15,000, or $300,000. If the applicant applies for 15 full-time members and 10 part-time members, the maximum grant award would also be 20 x $15,000, or $300,000.

Applicants should keep in mind that proposals requesting a lower cost per member might be deemed more competitive, as this is a factor in our evaluation criteria. Further, whether the Corporation will approve a budget of $15,000 per member may depend upon the aggregate amount requested by all applicants under this announcement.

Dated: March 7, 2001.
Peter Heinaru,
Director, AmeriCorps*State/National.

[FR Doc. 01-6216 Filed 3-12-01; 8:45 am]

BILLING CODE 6050-$$-P